DEPARTMENT OF LABOR

Occupational Safety and Health Administration

[Docket No. ICR-1218-0207(2001)]

Welding, Cutting and Brazing; Extension of the Office of Management and Budget's (OMB) Aproval of Information-Collection (Paperwork) Requirements

AGENCY: Occupational Safety and Health Administration (OSHA), Labor.

ACTION: Notice of an opportunity for public comment.

SUMMARY: OSHA solicits comments concerning its request to decrease the existing burden-hour estimates for, and to extend OMB approval of, the collection-of-information requirements of 29 CFR 1910, Subpart Q (“Welding, Cutting and Brazing”). This subpart regulates the safety of employees who operate electric or gas welding and cutting equipment.

DATES: Submit written comments on or before July 30, 2001.

ADDRESSES: Submit written comments to the Docket Office, Docket No. ICR-1218-0027-(2001), OSHA, U.S. Department of Labor, Room N-2625, 200 Constitution Avenue, NW., Washington, DC 20210; telephone (202) 693-2350. Commenters may transmit written comments of 10 pages or less by facsimile to (202) 693-1648.

FOR FURTHER INFORMATION CONTACT: Theda Kenney, Directorate of Safety Standards Programs, OSHA, U.S. Department of Labor, Room N-3609, 200 Constitution Avenue, NW., Washington, DC 20210; telephone (202) 693-2222. A copy of the Agency's Information-Collection Request (ICR) supporting the need for the information collections contained in 29 CFR 1910, subpart Q (“Welding, Cutting and Brazing”) is available for inspection and copying in the Docket Office or by requesting a copy from Theda Kenney at (202) 693-2222 or Todd Owen at (202) 693-2444. For electronic copies of the ICR contact OSHA on the Internet at http://www.osha.gov/comp-links.html, and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are understandable, and OSHA's estimate of the information-collection burden is correct. The Occupational Safety and Health Act of the 1970 (the Act) authorizes information collection by employers as necessary or appropriate for enforcement of the Act or for developing information regarding the causes and prevention of occupational injuries, illnesses, and accidents (29 U.S.C. 657).

After thoroughly reviewing the five standards in 29 CFR 1910, subpart Q (hereafter, “subpart Q”), OSHA identified a number of paperwork requirements; however, it determined that most of these requirements impose no burden hours or costs on respondents as specified by PRA-95. In the following table, the Agency lists these requirements and the rationale for excluding them from the provisions of PRA-95 regulating burden-hour and cost determinations.

Paragraphs | Paperwork requirement | Rationale for exclusion
§ 1910.252 (“General Requirements”):
(a)(2)(iii)(B) | Train fire watchers to use fire extinguishers | This training is performance-oriented and not subject to PRA-95.
(a)(2)(xiii)(C) | Train cutters and welders and their supervisors in the safe operation of their equipment and the safe use of the process | This training is performance-oriented and not subject to PRA-95.
(a)(2)(xiii)(D) | Advise contractors about flammable and hazardous conditions | This requirement was a usual and customary business practice before OSHA adopted the standard.
(a)(2)(xiv)(D) | Secure authorization for cutting and welding operations from the designated management representative | This requirement was a usual and customary business practice prior to publication of the standard.
(c)(1)(iv)(A)-(c)(1)(iv)(C) | Use caution or warning labels | The regulatory text provides the specific language for the labels.
(b)(2)(ii)(G) | Permanently and distinctively mark welding lenses so that the source and shade are readily identifiable | Manufacturers and suppliers provide this service as a usual and customary business practice.
§ 1910.253 (“Oxygen-Fuel Gas Welding and Cutting”):
(a)(4) | Instruct employees responsible for oxygen and fuel-gas supply equipment in this important work before they assume this responsibility | This training is performance-oriented and not subject to PRA-95.
(a)(4) | Make readily available the rules and instructions covering the operation and maintenance of oxygen and fuel-gas supply equipment | This requirement was a usual and customary business practice before OSHA adopted the standard.
(b)(1)(ii) | Mark compressed-gas cylinders to identify their gas contents | Manufacturers and suppliers provide this service as a usual and customary business practice.
(b)(5)(iii)(G), (c)(3)(v), (d)(4)(ii), (d)(4)(iii), (e)(6)(iii), (f)(1)(i), and (g)(1)(ii) | Provide warning tags on leaking cylinders; post a sign at the manifold; mark above-ground piping systems; mark station outlets with name of gas; mark gages on oxygen regulators; mark generators with specified information; and mark packages containing calcium carbide | The regulatory text provides the specific language for the labels.
(f)(7)(i)(A) | Post operating instructions in a conspicuous place near the generator or make them readily available in a suitable location | This requirement was a usual and customary business practice before OSHA adopted the standard.
§ 1910.254 (“Arc Welding and Cutting”):
(b)(4)(iv) | Mark as grounded any dedicated welding lead terminal connected to a grounded enclosure | Manufacturers and suppliers provide this service as a usual and customary business practice.

During its review of subpart Q, the Agency found one paperwork requirement needing OMB approval. Accordingly, paragraph (e) of § 1910.255 (“Resistance Welding”) specifies that employers must have qualified maintenance personnel inspect resistance welding equipment periodically, and develop and maintain a written certification record of each inspection. The record must include the date of the inspection, the signature of the individual who performed the inspection, and the serial number or other identifier of the equipment inspected. Developing and maintaining a certification record notifies mechanics of servicing or repair problems. In addition, employers can review the records to ensure that mechanics performed the necessary repairs and maintenance. The certification records also provide the most efficient means for an OSHA compliance officer to determine that an employer performed the required inspections and that the equipment is safe. Accordingly, by using equipment that is in safe operating condition, employers will prevent serious injury and death to the equipment operators and other employees who may be working near the equipment.

II. Special Issues for Comment

OSHA has a particular interest in comments on the following issues:

• Whether the proposed information-collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection and -transmission techniques.

III. Proposed Actions

OSHA is requesting a decrease in the existing burden-hour estimate for, as well as an extension of OMB approval of, the collection-of-information requirements specified by subpart Q. Accordingly, the Agency is requesting to decrease the current burden-hour estimate from 380,178 hours to 8,119 hours, a total reduction of 372,059 hours. This reduction occurred because OSHA is removing the burden hours previously attributed to the training requirement specified in § 1918.252(a)(2)(xiii)(C); this training is performance-oriented and, therefore, not subject to PRA-95. The Agency will summarize the comments submitted in response to this notice, and will include this summary in its request to OMB to extend the approval of these information-collected requirements.

Type of Review: Extension of currently approved information-collection requirements.

Title: Welding, Cutting and Brazing.

OMB Number: 1218-0207.

Affected Public: Business or other for-profit; not-for-profit institutions; Federal government; State, local or tribal governments.

Number of Respondents: 25,373.

Frequency of Response: Semi-annually.

Average Time per Response: Varies from 2 minutes (.03 hour) to develop an inspection record to 5 minutes (.08 hour) to perform an inspection.

Estimated Total Burden Hours: 8,119.

Estimated (Cost and Maintenance): None.

IV. Authority and Signature

R. Davis Layne, Acting Assistant Secretary of Labor for Occupational Safety and Health, directed the preparation of this notice. The authority for this notice is the Paperwork Reduction Act of 1995 (44 U.S.C. 3506) and Secretary of Labor's Order No. 3-2000 (65 FR 50017).

Signed at Washington, DC on May 25, 2001.
R. Davis Layne,
Acting Assistant Secretary of Labor.

[FR Doc. 01-13690 Filed 5-30-01; 8:45 am]

BILLING CODE 4510-26-M